DEPARTMENT OF TRANSPORTATION

Federal Aviation Administration

14 CFR Part 39

[Docket No. FAA-2015-3620; Directorate Identifier 2015-CE-029-AD; Amendment 39-18319; AD 2015-23-03]

RIN 2120-AA64

Airworthiness Directives; Pacific Aerospace Limited Airplanes

AGENCY: Federal Aviation Administration (FAA), Department of Transportation (DOT).

ACTION: Final rule.

SUMMARY: We are superseding Airworthiness Directive (AD) AD 2014-20-13 for certain Pacific Aerospace Limited Model 750XL airplanes. This AD results from mandatory continuing airworthiness information (MCAI) issued by an aviation authority of another country to identify and correct an unsafe condition on an aviation product. The MCAI describes the unsafe condition as fatigue cracks on the fin forward pickup plates, which could cause it to fail. We are issuing this AD to require actions to address the unsafe condition on these products.

DATES: This AD is effective December 15, 2015.

The Director of the Federal Register approved the incorporation by reference of a certain publication listed in the AD as of December 15, 2015.

ADDRESSES: You may examine the AD docket on the Internet at http://www.regulations.gov by searching for and locating Docket No. FAA-2015-3620; or in person at the Docket Management Facility, U.S. Department of Transportation, Docket Operations, M-30, West Building Ground Floor, Room W12-140, 1200 New Jersey Avenue SE., Washington, DC 20590.

For service information identified in this AD, contact Pacific Aerospace Limited, Airport Road, Hamilton, Private Bag 3027, Hamilton 3240, New Zealand, phone: +64 7 843 6144; fax: +64 7 843 6134; email: pacific@aerospace.co.nz; Internet: www.aerospace.co.nz. You may view this referenced service information at the FAA, Small Airplane Directorate, 901 Locust, Kansas City, Missouri 64106. For information on the availability of this material at the FAA, call (816) 329-4148. It is also available on the Internet at http://www.regulations.gov by searching for Docket No. FAA-2015-3620.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

We issued a notice of proposed rulemaking (NPRM) to amend 14 CFR part 39 to add an AD that would apply to certain Pacific Aerospace Limited Model 750XL airplanes. That NPRM was published in the Federal Register on August 27, 2015 (80 FR 51966), and proposed to supersede AD 2014-20-13, Amendment 39-17986 (79 FR 60329, October 7, 2014).

Since we issued AD 2014-20-13, Amendment 39-17986 (79 FR 60329, October 7, 2014), Pacific Aerospace Limited has revised the related service information and developed a terminating action for the repetitive inspections.

The Civil Aviation Authority (CAA), which is the aviation authority for New Zealand, has issued AD DCA/750XL/18A, dated August 4, 2015 (referred to after this as “the MCAI”), to correct an unsafe condition for the specified products. The MCAI states:

DCA/750XL/18A revised to add note 2 and introduce minor editorial changes. This AD supersedes DCA/750XL/18 and DCA/750XL/16A to introduce the requirements in Pacific Aerospace Limited Mandatory Service Bulletin (MSB) PACSB/XL/068 issue 5, dated 29 June 2015. The revised MSB introduces a life limit for fin forward pickup P/N 11-10281-1 and reduces the torque setting for the fin forward pickup bolt to alleviate some of the loads applied to the pickup. The MSB also introduces a replacement fin forward pickup P/N 11-03375-1 which is not life limited.

You may examine the MCAI on the Internet at http://www.regulations.gov/#!documentDetail;D=FAA-2015-3620-0002.

Comments

We gave the public the opportunity to participate in developing this AD. We received no comments on the NPRM (80 FR 51966, August 27, 2015) or on the determination of the cost to the public.

Conclusion

We reviewed the relevant data and determined that air safety and the public interest require adopting the AD as proposed except for minor editorial changes. We have determined that these minor changes:

• Are consistent with the intent that was proposed in the NPRM (80 FR 51966, August 27, 2015) for correcting the unsafe condition; and

• Do not add any additional burden upon the public than was already proposed in the NPRM (80 FR 51966, August 27, 2015).

Related Service Information Under 1 CFR Part 51

We reviewed Pacific Aerospace Limited Mandatory Service Bulletin PACSB/XL/068, Issue 5, dated June 29, 2015. The service bulletin describes procedures for reducing the torque setting for the fin forward pickup bolt. The service bulletin also introduces a new, improved replacement fin forward pickup plate, part number (P/N) 11-0375-1, to replace P/N 11-10281-1. This service information is reasonably available because the interested parties have access to it through their normal course of business or by the means identified in the ADDRESSES section of this AD.

Costs of Compliance

We estimate that this AD will affect 18 products of U.S. registry. We also estimate that it will take about 22 work-hours per product to comply with all the requirements of this AD. The average labor rate is $85 per work-hour. Required parts will cost about $1,692 per product.

Based on these figures, we estimate the cost of this AD on U.S. operators to be $64,116, or $3,562 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-3620; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17986 (79 FR 60329, October 7, 2014) and adding the following new AD:

2015-23-03 Pacific Aerospace Limited: Amendment 39-18319; Docket No. FAA-2015-3620; Directorate Identifier 2015-CE-024-AD.

(a) Effective Date

This Airworthiness Directive (AD) becomes effective December 15, 2015.

(b) Affected ADs

This AD replaces AD 2014-20-13, Amendment 39-17986 (79 FR 60329, October 7, 2014).

(c) Applicability

This AD applies to Pacific Aerospace Limited Model 750XL airplanes, all serial numbers through XL-193, XL-195, and XL-197, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as fatigue cracks on the fin forward pickup plates. We are issuing this AD to detect and correct cracked fin forward pickup plates to prevent failure of the fin forward pickup plates, which could result in reduced control.

(f) Actions and Compliance

Unless already done, do the actions in paragraphs (f)(1) through (f)(4) of this AD:

(1) Within the next 150 hours time-in-service (TIS) after December 15, 2015 (the effective date of this AD), reduce the fin forward pickup bolt torque following the procedures in section 1.D., paragraphs A. 1) and A. 2) of the PLANNING INFORMATION in Pacific Aerospace Limited Mandatory Service Bulletin PACSB/XL/068, Issue 5, dated June 29, 2015.

(2) At or before reaching 2,000 hours total time-in-service (TTIS) or within the next 150 hours TIS after December 15, 2015 (the effective date of this AD), whichever occurs later, and repetitively thereafter at intervals not to exceed 600 hours TIS or 12 months, whichever occurs first, do a detailed visual inspection and liquid penetrant inspection of the fin forward pickup plates for any evidence of cracking. Do the inspections following the procedures in sections 2.A. and 2.B. of the ACCOMPLISHMENT INSTRUCTIONS in Pacific Aerospace Limited Mandatory Service Bulletin PACSB/XL/068, Issue 5, dated June 29, 2015.

(3) If cracks are found during any inspection required in paragraph (f)(2) of this AD, before further flight, replace the fin forward pickup plates with new fin forward pickup plates, part number (P/N) 11-03375-1. Do the replacement following the procedures in section 2.C. of the ACCOMPLISHMENT INSTRUCTIONS in Pacific Aerospace Limited Mandatory Service Bulletin PACSB/XL/068, Issue 5, dated June 29, 2015. This replacement terminates the repetitive inspections required in paragraph (f)(2) of this AD.

(4) If no cracks are found during any inspection required in paragraph (f)(2) of this AD, at or before reaching 6,000 hours TTIS or within the next 600 hours TIS after December 15, 2015 (the effective date of this AD), whichever occurs later, replace the fin forward pickup plates, P/N 11-10281-1, with P/N 11-03375-1. Do the replacement following the procedures in section 2.D. of the ACCOMPLISHMENT INSTRUCTIONS in Pacific Aerospace Limited Mandatory Service Bulletin PACSB/XL/068, Issue 5, dated June 29, 2015. This replacement terminates the repetitive inspections required in paragraph (f)(2) of this AD .

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI Civil Aviation Authority (CAA) AD DCA/750XL/18A, dated August 4, 2015, for related information. You may examine the MCAI on the Internet at http://www.regulations.gov/#!documentDetail;D=FAA-2015-3620-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pacific Aerospace Limited Mandatory Service Bulletin PACSB/XL/068, Issue 5, dated June 29, 2015.

(ii) Reserved.

(3) For Pacific Aerospace Limited service information identified in this AD, contact Pacific Aerospace Limited, Airport Road, Hamilton, Private Bag 3027, Hamilton 3240, New Zealand, phone: +64 7 843 6144; fax: +64 7 843 6134; email: pacific@aerospace.co.nz; Internet: www.aerospace.co.nz.

(4) You may view this service information at FAA, Small Airplane Directorate, 901 Locust, Kansas City, Missouri 64106. For information on the availability of this material at the FAA, call 816-329-4148. In addition, you can access this service information on the Internet at http://www.regulations.gov by searching for and locating Docket No. FAA-2015-3620.

(5) You may view this service information that is incorporated by reference at the National Archives and Records Administration (NARA). For information on the availability of this material at NARA, call 202-741-6030, or go to: http://www.archives.gov/federal-register/cfr/ibr-locations.html.

Issued in Kansas City, Missouri, on November 2, 2015.
Melvin Johnson,
Acting Manager, Small Airplane Directorate, Aircraft Certification Service.

[FR Doc. 2015-28338 Filed 11-9-15; 8:45 am]

BILLING CODE 4910-13-P